CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Member Exit Questionnaire for review and approval in accordance with the Paperwork Reduction Act of 1995, Public Law 104-13, (44 U.S.C. Chapter 35). Copies of this ICR, with applicable supporting documentation, may be obtained by calling the Corporation for National and Community Service, Diana Epstein at 202-606-7564 or email to depstein@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 17, 2014. This comment period ended November 17, 2014. Two public comments were received from this Notice.

One commenter suggested engaging state service commissions in the survey planning process to avoid duplicating efforts to collect member experience data. CNCS engages state service commissions on a regular basis.

The second commenter offered the following suggestions.

Survey Question 3a. Public comment: Recommend spelling out the acronyms PSO and CTI. CNCS response: This change was discussed with our working group and with pilot respondents participating in cognitive interviewing, but was found not to be needed. Respondents to whom the acronyms did not apply simply ignored them.

Survey Questions 5a, 5b, and 5c. Public comment: Is it truly the frequency that you're interested in or whether or not the program provided them with the knowledge, skills and abilities to perform those activities? CNCS response: Though we certainly are interested in whether programs are providing members with the training and opportunities needed to develop these skills, we chose to assess frequency of skill usage

Survey Question 6. Public comment: Item a, when referencing co-worker are you referring to a fellow AmeriCorps member or other employees at the service location? CNCS response: Co-worker could refer to any individual in a service or workplace setting.

Survey Question 7. Public comment: Do you want the respondent to answer this based on their AmeriCorps experience or in general? May want to have a lead-in clause similar to question 8. CNCS response: Answers to this survey should be based on the member's AmeriCorps experience.

Question 11: Public comment. Although the question specifically references discussions with friends and family, a member may believe some of the selections within this question are leading them to answer about potential involvement in prohibited activities.

If trying to assess whether or not AmeriCorps has led them to be more civically engaged in the last 12 months, might want to rephrase the introduction statement/question. CNCS response: We have eliminated all questions referencing potentially prohibited activities.

Question 18. Public comment: Item c, may want to add a few examples or a national nonprofit (e.g., Red Cross, City Year, etc.) or change language to ask about affiliation with the legal applicant as not all program operators are nonprofits. CNCS response: Since we did not uncover confusion in our cognitive interviews or qualitative analysis, we decided not to add examples.

Question 19. Public comment: Is it beneficial to add a selection for VISTA members that elect to receive the cash stipend in lieu of an education award? CNCS response: Based on feedback from our cognitive interviews, this response option has been added.

Public comment: The commenter also wondered if CNCS was interested in knowing about how members' benefits (e.g. childcare or healthcare coverage) impacted the service experience or satisfaction. CNCS response: This was not indicated as an area of interest by the working group or other internal stakeholders, so no questions related to benefits will be included in this survey. It is possible that future projects or survey supplements could ask about the impact of member benefits. Public comment: The commenter also suggested that we include a question that could identify the specific states where members served, for use in reporting findings for state offices and commissions. CNCS response: Rather than include another question in the survey, we are exploring mechanisms to connect exit survey data to existing data on member service locations.

Description: CNCS is seeking approval of AmeriCorps Member Exit Questionnaire, CNCS seeks to renew the current information collection. The questionnaire submitted for clearance is a combination of new and existing content from the previously cleared exit questionnaire. The new content reflects changing agency and program priorities. In addition, some approved questions have been edited to make them easier to understand and to provide more useful information for programs. The new questions include data points on problem-solving and cross-cultural communication skills. The information collection will otherwise be used in the same manner as the existing application. CNCS also seeks to continue using the current application until the revised application is approved by OMB.

Type of Review: Renewal.

Agency: Corporation for National and Community Service.

Title: Performance Measurement in AmeriCorps.

OMB Number: 3045-0094.

Agency Number: None.

Affected Public: AmeriCorps members.

Total Respondents: 80,000.

Frequency: Annual.

Average Time per Response: Averages 15 minutes.

Estimated Total Burden Hours: 20,000.

Total Burden Cost (capital/startup): None.

Total Burden Cost (operating/maintenance): None.

Dated: December 4, 2014.
Stephen Plank,
Director, Office of Research and Evaluation.

[FR Doc. 2014-28912 Filed 12-9-14; 8:45 am]

BILLING CODE 6050-28-P